DEPARTMENT OF HEALTH AND HUMAN SERVICES

Food and Drug Administration

21 CFR Parts 510 and 524

New Animal Drugs; Change of Sponsor; Correction

AGENCY: Food and Drug Administration, HHS.

ACTION: Final rule; correction.

SUMMARY: The Food and Drug Administration (FDA) is correcting a final rule that appeared in the Federal Register of June 4, 2003 (68 FR 33381). The document amended the animal drug regulations to reflect a change of sponsor for an approved new animal drug application (NADA) from Combe, Inc., to Farnam Companies, Inc. The document was published with some errors. This document corrects those errors.

FOR FURTHER INFORMATION CONTACT: Joyce A. Strong, Office of Policy (HF-27), Food and Drug Administration, 5600 Fishers Lane, Rockville MD 20857, 301-827-7010.

SUPPLEMENTARY INFORMATION: In FR Doc. 03-14107, appearing on page 33381 in the Federal Register of June 4, 2003, the following corrections are made:

1. On page 33381, in the first column, in the “Summary”, the word “Farnham” is corrected to read “Farnam”.

2. On page 33381, in the second column, in the sixth line from the bottom, “§ 524.1580b [Amended]” is corrected to read “§ 524.1376 [Amended]”.

Dated: July 7, 2003.
Stephen F. Sundlof,
Director, Center for Veterinary Medicine.

[FR Doc. 03-18086 Filed 7-16-03; 8:45 am]

BILLING CODE 4160-01-S